DEPARTMENT OF ENERGY

Federal Energy Regulatory Commission

[Project No. 13222-000]

Delaware County Electric Cooperative; Notice of Preliminary Permit Application Accepted for Filing and Soliciting Comments, Motions To Intervene, and Competing Applications

July 21, 2008.

On May 9, 2008, Delaware County Electric Cooperative filed an application, pursuant to section 4(f) of the Federal Power Act, proposing to study the feasibility of the Catskills Hydro Project, which comprises four development sites, Schoharie Cannonsville, Pepacton and Neversink, located on the Schoharie Creek, West Branch Delaware River, East Branch Delaware River, and the Neversink River, in Schoharie, Delaware and Sullivan Counties, New York.

The proposed project would consist of the following developments:

Schoharie Development

(1) An existing 2,273-feet-long, 183-feet-high earthen Gilboa Dam; (2) an existing reservoir having a surface area of 1,150 acres and a storage capacity of 95,575 acre-feet and normal water surface elevation of 1,130 feet mean sea level; (3) four penstocks; (4) a powerhouse containing four new generating units having an installed capacity of 23.5-megawatts; (5) a tailrace; (6) a proposed 13,000-feet-long, 34.5-kilovolt transmission line; and (7) appurtenant facilities. The proposed Schoharie Development would have an average annual generation of 23.9 gigawatt-hours.

Cannonsville Development

(1) An existing 2,800-feet-long, 175-feet-high earthen Cannonsville Dam; (2) an existing reservoir having a surface area of 4,800 acres and a storage capacity of 300,000 acre-feet and normal water surface elevation of 1,150 feet mean sea level; (3) four proposed penstocks; (4) a proposed powerhouse containing four new generating units having an installed capacity of 20.5-megawatts; (5) a proposed tailrace; (6) an existing 100-feet-long, 46-kilovolt transmission line; and (7) appurtenant facilities. The proposed Cannonsville Development would have an average annual generation of 46.5 gigawatt-hours.

Pepacton Development

(1) An existing 2,450-feet-long, 254-feet-high earthen Downsville Dam; (2) an existing reservoir having a surface area of 6,400 acres and a storage capacity of 430,000 acre-feet and normal water surface elevation of 1,280 feet mean sea level; (3) two proposed penstocks; (4) a proposed powerhouse containing two new generating units having an installed capacity of 12.5-megawatts; (5) a proposed tailrace; (6) an existing 800-feet-long, 46-kilovolt transmission line; and (7) appurtenant facilities. The proposed Pepacton Development would have an average annual generation of 16.7 gigawatt-hours.

Neversink Development

(1) An existing 600-feet-long, 254-feet-high earthen Neversink Dam; (2) an existing reservoir having a surface area of 1,500 acres and a storage capacity of 107,000 acre-feet and normal water surface elevation of 1,440 feet mean sea level; (3) a proposed penstock; (4) a proposed powerhouse containing one new generating unit having an installed capacity of 6.5-megawatts; (5) a proposed tailrace; (6) an existing 300-feet-long, 13.8-kilovolt transmission line; and (7) appurtenant facilities. The proposed Neversink Development would have an average annual generation of 4 gigawatt-hours.

Applicant Contact: Gregory J. Starheim, CEO and General Manager, Delaware County Electric Cooperative, 39 Elm Street, P.O. Box 471, Delhi, NY 13753; phone: (607) 746-9281.

FERC Contact: Patricia W. Gillis, 202-502-8735.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13222) in the docket number field to access the document. For assistance, call toll-free 1-866-208-3372.

Kimberly D. Bose,
Secretary.

[FR Doc. E8-17155 Filed 7-25-08; 8:45 am]

BILLING CODE 6717-01-P